DEPARTMENT OF HEALTH AND HUMAN SERVICES

Administration for Children and Families

Proposed Information Collection Activity; Comment Request

Proposed Projects:

Title: The Evaluation of Child Welfare Information Gateway.

OMB No.: New Collection.

Description: The Children's Bureau (CB), Administration for Children and Families (ACF), U.S. Department of Health and Human Services (HHS) is proposing new or expanded data collection activities as part of its Evaluation of Child Welfare Information Gateway.

Child Welfare Information Gateway (CWIG) is a national information clearinghouse and service of the Children's Bureau, Administration for Children and Families, U.S. Department of Health and Human Services. CWIG connects professionals and concerned citizens to resources and information on programs, research, legislation, and statistics regarding child maltreatment, child abuse prevention, and child welfare services designed to achieve the safety, permanency, and well-being of children and families. The Evaluation of Child Welfare Information Gateway gathers information to inform the Children's Bureau about the kind and quality of information services that customers want, how customers are using resources and services, as well as customers' level of satisfaction with existing services.

The Market Research Sub-Study complements information obtained from the larger Evaluation of Child Welfare Information Gateway. The Children's Bureau seeks to learn more about how child welfare professionals and students planning to enter the child welfare workforce access and consume work-related information. This national study will focus on understanding child welfare professionals' and students' characteristics, use of technology, and preferences for obtaining information that they use in their work. The goal of the sub-study is to provide federally-funded technical assistance providers and other stakeholder organizations with a better understanding of their target audiences so they can design more effective products, services, and dissemination strategies to reach these populations.

Data collection activities proposed for the Evaluation of Child Welfare Information Gateway include: six online targeted surveys designed to evaluate CWIG's special initiative websites and other targeted website sections; five online event surveys administered after CWIG-sponsored webinars, presentations, or other events; five focus groups (each with approximately 10 participants) with users and non-users of CWIG's special initiative websites and other CWIG products and services; and, a general customer survey delivered via multiple modes (e.g., website, email, live chat, print, and phone). The sampling plan for the CWIG general customer survey is designed to reach the various types of customers using Child Welfare Information Gateway services such as professionals, students, and customers looking for assistance with a personal situation while reducing burden for respondents by only asking relevant questions for their backgrounds.

The market research sub-study seeks to deliver surveys and conduct focus groups to gauge online information habits and preferences. The proposed market research sub-study will consist of a national online survey of child welfare professionals and students, which will be administered through four different instruments tailored for four different populations. Ten focus groups (each with 8 to 10 participants) will be used to learn more about different audiences' habits and preferences related to child welfare information access and consumption.

Respondents: The Evaluation of Child Welfare Information Gateway will target all types of possible CWIG users including: State and local governments, the territories, service providers, Tribes and tribal organizations, grantees, researchers, and the general public seeking information and resources from Child Welfare Information Gateway via the website, mail, telephone, Live Chat, and email. The Market Research Sub-Study will target child welfare professionals in state, county, tribal, and private agencies; Court Improvement Program coordinators and directors; judges and attorneys involved in child welfare-related work; and students in Bachelor's and Master's degree programs in social work that receive Title IV-E or IV-B stipends.

Annual Burden Estimates
Instrument | Number of respondents | Number of responses per respondent | Average burden hours per response | Total burden hours
Child Welfare Information Gateway's Targeted Survey | 2,355 | 1 | 0.084 | 197.82
Child Welfare Information Gateway's Event Survey | 500 | 1 | 0.05 | 25
Child Welfare Information Gateway's Focus Group Guide | 50 | 1 | 1 | 50
Child Welfare Information Gateway's General Customer Survey: Questions for Professionals | 960 | 1 | 0.084 | 80.64
Child Welfare Information Gateway's General Customer Survey: Questions for Students | 480 | 1 | 0.05 | 24
Child Welfare Information Gateway's General Customer Survey: Questions for Personal Customers | 960 | 1 | 0.05 | 48
Market Research Sub-Study: Online Information Habits and Preferences Survey (for child welfare professionals in state, county, and private agencies) | 1,400 | 1 | 0.5 | 700
Market Research Sub-Study: Online Information Habits and Preferences Survey (for child welfare professionals working with tribes) | 1,000 | 1 | 0.5 | 500
Market Research Sub-Study: Online Information Habits and Preferences Survey (for legal professionals working in child welfare) | 1,400 | 1 | 0.5 | 700
Market Research Sub-Study: Online Information Habits and Preferences Survey (for students planning to enter the child welfare workforce) | 900 | 1 | 0.5 | 450
Market Research Sub-Study: Focus Groups on Information Habits and Preferences | 100 | 1 | 1.5 | 150

Estimated Total Annual Burden Hours: 2,925 hours.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-04384 Filed 3-2-18; 8:45 am]

BILLING CODE 4184-01-P